DEPARTMENT OF JUSTICE

National Institute of Corrections

Solicitation for a Cooperative Agreement—National Sheriffs' Institute: Training Program Review, Delivery, Revision, and Evaluation

AGENCY: National Institute of Corrections, Department of Justice.

ACTION: Solicitation for a Cooperative Agreement.

SUMMARY: The National Institute of Corrections (NIC), Jails Division, is seeking applications for the review, delivery, evaluation, and revision of the curriculum for the National Sheriffs' Institute (NSI), which is co-sponsored by the National Institute of Corrections (NIC) and the National Sheriffs' Association (NSA). The NSI is a seven-day training program designed to introduce first-term sheriffs to leadership concepts as they apply to the Office of Sheriff. The project will be for a three-year period and will be carried out in conjunction with the NIC Jails Division. The awardee will work closely with NIC staff on all aspects of the project. To be considered, applicants must demonstrate, at a minimum: (1) Knowledge of the leadership role of sheriffs in their organization, local criminal justice system, and community; (2) in-depth expertise on contemporary leadership principles, concepts, and practices and their application to the leadership roles of sheriffs; (3) ability to conduct training, based on adult learning principles, on leadership principles, concepts, and practices; and (4) experience in conducting training for first-term sheriffs on their leadership roles.

DATES: Applications must be received by 4 p.m. (EDT) on June 19, 2009.

ADDRESSES: Mailed applications must be sent to: Director, National Institute of Corrections, 320 First Street, NW., Room 5007, Washington, DC 20534. Applicants are encouraged to use Federal Express, UPS, or similar service to ensure delivery by the due date as mail at NIC is sometimes delayed due to security screening.

Applicants who wish to hand-deliver their applications should bring them to 500 First Street, NW., Washington, DC 20534, and dial 202-307-3106, ext. 0, at the front desk for pickup.

Faxed or e-mailed applications will not be accepted; however, electronic applications can be submitted via http://www.grants.gov.

FOR FURTHER INFORMATION CONTACT: A copy of this announcement and links to the required application forms can be found on the NIC Web page at http://www.nicic.gov/cooperativeagreements.

Questions about this project and the application procedures should be directed to Jim T. Barbee, Correctional Program Specialist, National Institute of Corrections. Questions must be e-mailed to Mr. Barbee at jbarbee@bop.gov, and Mr. Barbee will respond by e-mail to the individual. Also, all questions and responses will be posted on NIC's Web site at http://www.nicic.gov for public review. (The names of those submitting the questions will not be posted.) The Web site will be updated daily and postings will remain on the Web site until the closing date of this cooperative agreement solicitation.

SUPPLEMENTARY INFORMATION: Background: The NSI is a training program designed to introduce first-term sheriffs to their leadership role, specifically as it relates to the role of the sheriff in his/her own organization, the local criminal justice system, and the community. All leadership concepts are taught within the context of the experience of the first-term sheriff. Current program topics include: The Sheriff as Leader; Defining Your Leadership Direction; Self Awareness; Developing Your Executive Team; Ethics; Power and Influence; The External Environment and Public Partnerships; and Leading Change. The first two topics form the foundation for the program, and all other topics are taught as they relate to the sheriff's leadership role and the achievement of the sheriff's leadership direction. There are also two evening sessions—one conducted by NSA on the Office of Sheriff and one that provides a forum for discussing issues of the participants' choice. At the end of the program, each participant creates a leadership-development plan, based on what he/she has learned and self-assessments conducted throughout the program.

Although the current curriculum has been pilot tested and successfully conducted, NIC continuously assesses the content and delivery strategies for needed improvement. The current curriculum has been in place for about three years and is due for an overall review. NIC expects to work closely with the awardee and NSA to conduct the program, evaluate it, determine needed revisions, and make those revisions.

Scope of Work

NSI program delivery: The cooperative agreement awardee will facilitate the delivery of six NSI programs. This will entail contracting with five instructors to prepare for and deliver the program; ensuring all instructors are available and present for the entire program and a pre-program meeting (up to four hours) on the Sunday the program begins; managing the instructor team during the program; ensuring adherence to the lesson plans; facilitating participant learning activities; and managing participant activities and breaks to ensure compliance with timeframes noted in the lesson plans. NIC staff will be on site for each program, and the awardee will work closely with NIC staff during program delivery.

Note: The applicant must identify and describe the qualifications of at least four instructors who have committed to teaching the NSI under this cooperative agreement. The fifth instructor will be identified jointly by NIC and the awardee after the cooperative agreement is awarded. The work of the fifth instructor will be funded by the awardee and must be accounted for in the application budget.

The NSI begins on a Sunday with an instructor meeting in the afternoon and the opening program session Sunday night. The program concludes the following Saturday afternoon. For the foreseeable future, the program will be conducted in Longmont, Colorado.

The following are the responsibility of NIC or NSA: Recruiting and selecting participants; notifying participants of selection and program details; providing the training room, equipment, and materials; providing for participant lodging, meals, and transportation; mailing and ensuring completion of participants' pre-program assignments; and scoring the Myers-Briggs Type Inventory and the Leadership Practices Inventory. In addition to the program instructors, there is a mentoring sheriff for each program. NIC and NSA select and pay all expenses for the mentoring sheriff.

NSI program evaluation: There are three types of program evaluation for which the awardee will be responsible.

First, the awardee will, in conjunction with all program staff, observe and discuss participants' response to instructional modules; effectiveness of instructional strategies; relevance of content; and instructors' effectiveness in delivering the curriculum, managing participants, responding to participant questions, and engaging participants in learning activities. The awardee will facilitate a meeting of program staff to discuss these issues at the end of each day.

Second, the NIC Jails Division has developed two in-program evaluation forms. One is an evaluation form that participants complete at the end of each module. This form assesses, based on self report, each participant's level of knowledge about a given concept before and after completing the module; the relevance of each concept to the participant's work; and the degree to which each participant intends to use what he/she has learned. Participants are given time at the end of each module to complete the form. The awardee will distribute and collect the forms after each module for program staff review and discussion at the end of the day. The other in-program evaluation is an end-of-program questionnaire completed by each participant. The awardee will distribute and collect these forms for program staff review and discussion at the end of the program. Within three weeks after the program, the awardee will submit a report to NIC that includes: (1) Tabulation of all ratings from both evaluation forms, (2) compilation of all comments from both evaluation forms, and (3) a brief summary of evaluation results and their implications for program revision.

Third, NIC has developed a three-month follow-up evaluation to determine if participants implemented the concepts taught; the effect of implementation on their ability to lead; obstacles to implementation; participants' assessment of the effectiveness of the NSI; and participants' suggestions for improving the NSI. The awardee will conduct this evaluation through telephone interviews with program participants. Within one month of interview completion, the awardee will deliver to NIC a written report of evaluation findings and the implications for program content and delivery. The awardee will include in this report note of any correlation or discrepancies between the in-program evaluation results (degree of learning, assessment of concept relevance, and intention to implement concepts) and the findings of the follow-up evaluation.

Program revisions: Based on the evaluations noted above, the awardee will work closely with NIC staff to identify needed curriculum revisions. The awardee will also draft revisions, working with NIC staff. NIC staff will write the final version of the revised lesson plans and ensure they are in NIC's lesson plan format.

Meetings with NIC staff: Shortly after the award of the cooperative agreement, the awardee and instructional team will meet with NIC staff for a “kick-off” meeting, which will last up to two days. Also, the awardee and up to four members of the instructional team will meet at three times each year of the award. These meetings will last up to two days and will focus on program planning, review, and revision.

Initial familiarization with the NSI: In preparation for the project kick-off meeting, the awardee will review all program lesson plans, participant manuals, presentation slides, and other program materials.

Application Requirements: An application package must include OMB Standard Form 425, Application for Federal Assistance; a cover letter that identifies the audit agency responsible for the applicant's financial accounts as well as the audit period or fiscal year under which the applicant operates (e.g., July 1 through June 30); and an outline of projected costs with the budget and strategy narratives described in this announcement. The following additional forms must also be included: OMB Standard Form 424A, Budget Information—Non-Construction Programs; OMB Standard Form 424B, Assurances—Non-Construction Programs (both available at http://www.grants.gov); DOJ/FBOP/NIC Certification Regarding Lobbying, Debarment, Suspension and Other Responsibility Matters; and the Drug-Free Workplace Requirements (available at http://www.nicic.org/Downloads/PDF/certif-frm.pdf).

Applications should be concisely written, typed double spaced, and reference the NIC opportunity number and title referenced in this announcement.

If you are hand delivering or submitting via Fed-Ex, please include an original and three copies of your full proposal (program and budget narrative, application forms, assurances and other descriptions). The original should have the applicant's signature in blue ink. Electronic submissions will be accepted only via http://www.grants.gov.

The narrative portion of the application should include, at a minimum: a brief paragraph indicating the applicant's understanding of the project's purpose; a brief paragraph that summarizes the project goals and objectives; a clear description of the methodology that will be used to complete the project and achieve its goals; a statement or chart of measurable project milestones and timelines for the completion of each milestone; a description of the qualifications of the applicant organization and a resume for the principal and each staff member assigned to the project (including instructors) that documents relevant knowledge, skills, and abilities to carry out the project; and a budget that details all costs for the project, shows consideration for all contingencies for the project, and notes a commitment to work within the proposed budget.

The narrative portion of the application should not exceed ten double-spaced typewritten pages, excluding attachments related to the credentials and relevant experience of staff.

Authority: Public Law 93-415.

Funds Available: NIC is seeking the applicant's best ideas regarding accomplishment of the scope of work and the related costs for achieving the goals of this solicitation. Funds may be used only for the activities that are linked to the desired outcome of the project.

Eligibility of Applicants: An eligible applicant is any State or general unit of local government, private agency, educational institution, organization, individual, or team with expertise in the described areas. Applicants must have demonstrated ability to implement a project of this size and scope.

Review Considerations: Applications will be subject to the NIC Review Process. The criteria for the evaluation of each application will be as follows:

Project Design and Management—30%

Is there a clear understanding of the purpose of the project and the nature and scope of project activities? Does the applicant give a clear and complete description of all work to be performed for this project? Does the applicant clearly describe a work plan, including objectives, tasks, and milestones necessary to project completion? Are the objectives, tasks, and milestones realistic and will they achieve the project as described in NIC's solicitation for this cooperative agreement? Are the roles and the time required of project staff clearly defined? Is the applicant willing to meet with NIC staff, at a minimum, as specified in the solicitation for this cooperative agreement?

Applicant Organization and Project Staff Background—45%

Is there a description of the background and expertise of all project personnel as they relate to this project? Is the applicant capable of managing this project? Does the applicant have an established reputation or skill that makes the applicant particularly well qualified for the project? Do project personnel, individually or collectively, have knowledge of the leadership role of sheriffs in their organization, local criminal justice system, and community? Do the project personnel, individually or collectively, have in-depth expertise on contemporary leadership principles, concepts, and practices and their application to the leadership roles of sheriffs? Do the project personnel, individually or collectively, have the ability to conduct training, based on adult learning principles, on leadership principles, concepts, and practices? Do project personnel, individually or collectively, have experience in conducting training for first-term sheriffs on their leadership roles? Does the staffing plan propose sufficient and realistic time commitments from key personnel? Are there written commitments from proposed staff that they will be available to work on the project as described in the application?

Budget—25%

Does the application provide adequate cost detail to support the proposed budget? Are potential budget contingencies included? Does the application include a chart that aligns the budget with project activities along a timeline with, at a minimum, quarterly benchmarks? In terms of program value, is the estimated cost reasonable in relation to work performed and project products?

Note: NIC will not award a cooperative agreement to an applicant who does not have a Dun and Bradstreet Database Universal Number (DUNS) and is not registered in the Central Contractor Registry (CCR).

Applicants can obtain a DUNS number at no cost by calling the dedicated toll-free DUNS number request line at 800-333-0505. Applicants who are sole proprietors should dial 866-705-5711 and select option #1.

Applicants may register in the CCR Online at the CCR Web site at http://www.ccr.gov. Applicants can also review a CCR handbook and worksheet at this Web site.

Number of Awards: One.

NIC Opportunity Number: 09J70. This number should appear as a reference line in the cover letter, where the opportunity number is requested on Standard Form 424, and on the outside of the envelope in which the application is sent.

Catalog of Federal Domestic Assistance Number: 16.601.

Executive Order 12372: This project is not subject to the provisions of the executive order.

Morris L. Thigpen,
Director, National Institute of Corrections.

[FR Doc. E9-12629 Filed 5-29-09; 8:45 am]

BILLING CODE 4410-36-P